DEPARTMENT OF ENERGY

Federal Energy Regulatory Commission

[Docket No. RP00-233-000]

Midwestern Gas Transmission Company; Notice of Tariff Filing

April 5, 2000.

Take notice that on March 31, 2000, Midwestern Gas Transmission Company (Midwestern), tendered for filing as part of its FERC Gas Tariff, Second Revised Volume No. 1, the revised Tariff sheets identified in Appendix A to the filing. Midwestern proposes that the tariff sheets be made effective on May 1, 2000.

Midwestern states that as part of its transition to interactive Internet communications in compliance with the Commission's Order No. 587-I it has undertaken a major rewrite of its critical computer system functions. In conjunction with the rewrite, Midwestern further states that it is taking the opportunity to initiate additional modifications to its computer systems in order to streamline certain of Midwestern's processes and to provide additional service flexibilities (collectively, hereinafter referred to as Service Upgrades). In order to provide the Service Upgrades by completion and implementation of the rewrite, Midwestern is seeking approval for certain modifications to its existing tariff and pro forma service agreements.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commissions's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8910 Filed 4-10-00; 8:45 am]

BILLING CODE 6717-01-M